DEPARTMENT OF TRANSPORTATION

Coast Guard

33 CFR Part 117

[CGD08-00-007]

Drawbridge Operating Regulation; Inner Harbor Navigation Canal, Louisiana

AGENCY: Coast Guard, DOT.

ACTION: Notice of temporary deviation from regulations.

SUMMARY: The Commander, Eighth Coast Guard District has issued a temporary deviation from the regulation governing the operation of the L&N Railroad / Old Gentilly Road drawbridge across the Inner Harbor Navigation Canal, mile 2.9 at New Orleans, Orleans Parish, Louisiana. This deviation allows the Port of New Orleans to close the bridge to navigation from 7 a.m. to 5 p.m. and from 6:30 p.m. to 5:30 a.m. daily from Monday, July 31, 2000 through Sunday, August 13, 2000. Presently, the draw is required to open on signal. This temporary deviation is issued to allow for replacement of the damaged south roadway grating.

DATES: This deviation is effective from 7 a.m. on Monday, July 31, 2000 through 5 p.m. on Sunday, August 13, 2000.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The L&N bascule drawbridge across the Inner Harbor Navigation Canal, mile 2.9, in New Orleans, Orleans Parish, Louisiana, has a vertical clearance of one foot above high water in the closed-to-navigation position and unlimited clearance in the open-to-navigation position. Navigation on the waterway consists of tugs with small ships, tows, fishing vessels, sailing vessels, and other recreational craft. The Port of New Orleans requested a temporary deviation from the normal operation of the drawbridge in order to accommodate the maintenance work, involving removal and replacement of the deck grading. As sections are replaced, the bascule span requires balancing, a time consuming operation which must be accomplished without interruption.

This deviation allows the draw of L&N Railroad/Old Gentilly Road bascule span drawbridge across the Inner Harbor Navigation Canal, mile 2.9, at New Orleans, Orleans Parish, Louisiana to remain closed to navigation daily from 7 a.m. to 5 p.m. and from 6:30 p.m. to 5:30 a.m. from Monday, July 31, 2000 through Sunday, August 13, 2000. In the event of an approaching tropical storm or hurricane, the draw will return to normal operation within 12 hours notice from the Coast Guard.

Dated: April 11, 2000.
K.J. Eldridge,
Captain, U.S. Coast Guard, Acting Commander, 8th Coast Guard District.

[FR Doc. 00-10847 Filed 5-1-00; 8:45 am]

BILLING CODE 4910-15-P